DEPARTMENT OF ENERGY

Federal Energy Regulatory Commission

Combined Notice of Filings #2

Take notice that the Commission received the following exempt wholesale generator filings:

Docket Numbers: EG16-50-000.

Applicants: Summer Solar LLC.

Description: Notice of Self-Certification of Exempt Wholesale Generator (EWG) Status of Summer Solar LLC.

Filed Date: 2/4/16.

Accession Number: 20160204-5142.

Comments Due: 5 p.m. ET 2/25/16.

Take notice that the Commission received the following electric rate filings:

Docket Numbers: ER16-891-000.

Applicants: Bishop Hill Interconnection LLC.

Description: Compliance filing: Certificate of Concurrence Filing to be effective 4/4/2016.

Filed Date: 2/4/16.

Accession Number: 20160204-5151.

Comments Due: 5 p.m. ET 2/25/16.

Docket Numbers: ER16-892-000.

Applicants: Red Horse III, LLC.

Description: Baseline eTariff Filing: Baseline New to be effective 4/4/2016.

Filed Date: 2/4/16.

Accession Number: 20160204-5152.

Comments Due: 5 p.m. ET 2/25/16.

Docket Numbers: ER16-893-000.

Applicants: 62SK 8ME LLC.

Description: Baseline eTariff Filing: Baseline New to be effective 4/4/2016.

Filed Date: 2/4/16.

Accession Number: 20160204-5154.

Comments Due: 5 p.m. ET 2/25/16.

Docket Numbers: ER16-894-000.

Applicants: Sierra Pacific Power Company.

Description: § 205(d) Rate Filing: Rate Schedule No. 66 SPPC & Liberty EPC Agreement Amendment to be effective 2/5/2016.

Filed Date: 2/4/16.

Accession Number: 20160204-5171.

Comments Due: 5 p.m. ET 2/25/16.

Docket Numbers: ER16-895-000.

Applicants: RDAF Energy Solutions.

Description: Baseline eTariff Filing: Baseline Filing for MBR Authority and Granting Waivers to be effective 2/4/2016.

Filed Date: 2/4/16.

Accession Number: 20160204-5192.

Comments Due: 5 p.m. ET 2/25/16.

Docket Numbers: ER16-896-000.

Applicants: Orange and Rockland Utilities, Inc.

Description: Baseline eTariff Filing: Electric Supply Agreement and Request for Waivers to be effective 12/31/9998.

Filed Date: 2/4/16.

Accession Number: 20160204-5197.

Comments Due: 5 p.m. ET 2/25/16.

Docket Numbers: ER16-897-000.

Applicants: California Independent System Operator Corporation.

Description: § 205(d) Rate Filing: 20160204_Am to Revise Implement Date-CPM Revs._Request for Waiver of Notice Reqs to be effective 2/25/2016.

Filed Date: 2/4/16.

Accession Number: 20160204-5199.

Comments Due: 5 p.m. ET 2/25/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2016.
Nathaniel J. Davis, Sr.,
Deputy Secretary.

[FR Doc. 2016-02633 Filed 2-9-16; 8:45 am]

BILLING CODE 6717-01-P